DEPARTMENT OF LABOR

Employment and Training Administration

[TA-W-61,716]

Clayton Marcus Co., Inc., Plant #9, a Subsidiary of La-Z-Boy Inc., Currently a Division of Rowe Fine Furniture, Inc. (“Rowe”), Hickory, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on June 25, 2007, applicable to workers of Clayton Marcus Company, Inc., Plant #9, a subsidiary of La-Z-Boy Inc., Hickory, North Carolina. The notice was published in the Federal Register on July 19, 2007 (72 FR 39643).

At the request of a company official, the Department reviewed the certification for workers of the subject firm. The workers are engaged in employment related to the production of cut and sewn materials used for upholstered furniture.

New information provided by the company shows that in October 2007, Rowe Fine Furniture, Inc. (“Rowe”) purchased Clayton Marcus Co., Inc., Plant #9, a subsidiary of La-Z-Boy Inc. and that some of the workers' wages at the subject firm are being reported under the Unemployment Insurance (UI) tax account for Rowe Fine Furniture, Inc. (“Rowe”).

Accordingly, the Department is amending the certification to include workers of the subject firm whose UI wages are reported by the successor firm, Rowe Fine Furniture, Inc. (“Rowe”).

The amended notice applicable to TA-W-61,716 is hereby issued as follows:

“All workers of Clayton Marcus Co., Inc., Plant #9, a subsidiary of La-Z-Boy Inc., currently a division of Rowe Fine Furniture, Inc. (“Rowe”), Hickory, North Carolina, who became totally or partially separated from employment on or after February 26, 2007, through June 25, 2009, are eligible to apply for adjustment assistance under Section 223 of the Trade Act of 1974, and are also eligible to apply for alternative trade adjustment assistance under Section 246 of the Trade Act of 1974.”

Signed at Washington, DC, this 6th day of August 2008.
Linda G. Poole,
Certifying Officer, Division of Trade Adjustment Assistance.

[FR Doc. E8-18582 Filed 8-11-08; 8:45 am]

BILLING CODE 4510-FN-P